DEPARTMENT OF AGRICULTURE

Forest Service

Crooked River National Grassland Vegetation and Livestock Grazing Management, Ochoco National Forest, Jefferson County, OR

AGENCY: Forest Service, USDA.

ACTION: Notice of intent to prepare an environmental impact statement.

SUMMARY: The USDA, Forest Service will prepare an environmental impact statement (EIS) on a Proposed Action to return the Crooked River National Grassland (CRNG or Grassland) vegetation to its historical range of variability and to graze domestic livestock where suitable. This will include control of western juniper on 40,000 acres using prescribed fire and chainsaw cutting, rehabilitate 10,000 acres of non-native crested wheatgrass seedings, continue grazing domestic livestock on approximately 82,000 acres, close domestic livestock grazing on approximately 9,000 acres, and to create a forage reserve on approximately 27,000 acres. This project is located in Jefferson County within the Mud Springs Creek, Willow Creek, Lower Crooked River, Crooked River, Steelhead, Whychus, Lake Billy Chinook, Lower Metolius, and Deschutes South watersheds.

DATES: Comments concerning the scope of the analysis must be received by March 21, 2003.

ADDRESSES: Send written comments to Robin Vora, Acting District Manager, Crooked River National Grassland, 813 SW Highway 97, Madras, Oregon 97741.

FOR FURTHER INFORMATION CONTACT: Glenn Adams, ID Team Leader, CRNG. Phone: (541) 416-6440 E-mail gradams@fs.fed.us

SUPPLEMENTARY INFORMATION: The Grassland was created after the homesteading era failed in the 1930's. Between 1935 and 1965 the Soil Conservation Service rehabilitated and developed the Grassland by seeding approximately 60,000 acres of abandoned farmland to crested wheatgrass and beardless bluebunch wheatgrass, developing livestock drinking water, fencing and implementing grazing allotment management plans (AMPs). During the 1960's the USDA Forest Service assumed the management of the CRNG.

Sagebrush steppe and western juniper woodland plant associations primiarly characterized the historical vegetation of the Grassland. Historically wildfire maintained the balance of these plant associations. It is believed that approximately twenty to forty percent of the land area of the Grassland would have had a major component of western juniper. Today western juniper exists on approximately ninety percent of the land area of the Grassland. The Forest Service proposes to thin/remove western juniper on approximately 40,000 acres over a ten-year period using prescribed fire and mechanical treatments. These projects would be located in various locations across the entire Grassland. The objective for these activities will be to manage the vegetation in such a way to maintain sagebrush/bunchgrass associations and western juniper woodlands as near their historical ranges.

There is a need to assist in the restoration of native species on portions of the landscape that were farmed at the turn of the last century and later seeded to introduced plant species during the period from 1935 through 1965. Some of these sites are stagnated in early serial stages of succession due soil compaction and topsoil loss incurred during the homesteading era. The Forest Service proposes to rehabilitate approximately 10,000 acres of stagnant “old” crested and tall wheatgrass seeding to a mixture of shrubs, grasses, and forbs (native species, cultivars of native species, and non-native species). Methods used: Site preparation methods used would include brush beaters, disking, and ripping where appropriate. Seeding will be done using a rangeland drill and/or broadcast seeding. Prescribed fire will be used. Both hot summer and cool winter/spring fire will be used where appropriate.

There is a social/economic need to continue livestock grazing on the Grassland, but there is a need to modify grazing practices because some of the current practices discourage native grass and forb species establishment and maintenance. The Forest Service proposes to permit livestock grazing on approximately 84,646 acres of the Grassland for the next ten-year planning period. Grazing will occur on eighteen allotments. This action is to continue livestock grazing while continuing improving trends in vegetation, watershed conditions, and ecological stability. General grazing management changes proposed from the present allotment management plans include the following: eliminate the re-graze option on all but one allotment (Haystack Butte Allotment that practices short-duration grazing successfully), add a rest pasture to the grazing rotation on eleven allotments, and continue to graze five allotments with versions of deferred grazing. In addition, although this action proposes to retain existing permitted livestock number as the upper limit, actual use will be a function of meeting or exceeding standards. No guarantees are made as to length of season of livestock use. Animal Units harvested is a function of maintaining standards, non pre-planned calendar dates of use or permitted numbers.

There is a need to close livestock grazing on three allotments (the Peninsula, Clevenger and Goldmine/Falls Allotments) for the following reasons, among others: downward ecological trends, these allotments have been vacant for the past two to ten years, would require extensive fencing and water developments to be used, and are small in size and would support small numbers of livestock for only a short period of time. The Allotments have been vacant for approximately ten years.

There is a need to create grazing management flexibility by making additional forage available to encourage and/or facilitate vegetation rehabilitation elsewhere. A Forage Reserve created from the Canadian Bench and the Lower Desert Allotments would provide temporary relief for permittees as rehab projects take place on their permitted allotment. It is proposed to create two Forage Reserve Allotments on approximately 27,742 acres of the Canadian Bench and Lower Desert Allotments during the next ten-year planning period.

The preliminary issues that have been identified include: watershed restoration, grazing allotment management, noxious weed treatments, wildlife habitat, and reintroduction of prescribed fire. Alternatives to the Proposed Action will be developed to address significant issues, and will include, at a minimum, a no-action alternative.

Initial scoping began in February 2003. The Forest Service is seeking information, comments, and assistance from other agencies, organizations, Indian Tribes, and individuals who may be interested in or affected by the Proposed Action. This input will be used in preparation of the draft EIS. Your comments are appreciated throughout the analysis process.

Comments received in response to this notice, including names and addresses of those who comment, will be considered part of the public record on this Proposed Action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days.

The draft EIS is to be filed with the Environmental Protection Agency (EPA) and to be available for public review by October 2003. At that time, copies of the draft EIS will be distributed to interested and affected agencies, organizations, Indian Tribes, and members of the public for their review and comment. The EPA will publish a Notice of Availability of the draft EIS in the Federal Register. The comment period on the draft EIS will be 45 days from the date the EPA notice appears in the Federal Register. It is important that those interested in this project participate at that time.

The Forest Service believes, at this early stage, it is important to give reviewers notice of several court rulings related to public participation in the environmental review process. First, reviewers of draft EIS must structure their participation in the environmental review of the proposal so that it is meaningful and alerts an agency to the reviewer's position and contentions. Vermont Yankee Nuclear Power Corp. v. NRDC, 435 U.S. 519,553 (1978). Also, environmental objections that could be raised at the draft EIS stage but are not raised until after completion of the final EIS may be waived or dismissed by the courts. City of Angoon v. Hodel, 803 F.2d 1016, 1022 (9th Cir, 1986) and Wisconsin Heritages, Inc. v. Harris, 490 F. Supp. 1334, 1338 (F.D. Wis. 1980). Because of these court rulings, it is very important that those interested in this Proposed Action participate by the close of the 45-day comment period so that substantive comments and objections are made available to the Forest Service at a time when it can meaningfully consider them and respond to them in the final EIS.

To assist the Forest Service in identifying and considering issues and concerns on the Proposed Action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

The final EIS is scheduled to be available by February 2004. In the final EIS, the Forest Service is required to respond to substantive comments received during the comment period for the draft EIS. The Responsible Official is Ochoco National Forest Supervisor, Larry Timchak. He will decide which, if any, of the alternatives will be implemented. His decision and rationale for the decision regarding vegetation management & livestock grazing actions will be documented in the Record of Decision, which will be subject to Forest Service Appeal Regulations (36 CFR part 215).

Dated: February 11, 2003.
Larry Timchak,
Forest Supervisor.

[FR Doc. 03-4240 Filed 2-21-03; 8:45 am]

BILLING CODE 3410-11-M